DEPARTMENT OF THE INTERIOR

Bureau of Land Management

[WY-060-1320-EL, WYW163340]

Notice of Availability of the West Antelope II Federal Coal Lease by Application Draft Environmental Impact Statement and Notice of Hearing, Wyoming

AGENCY: Bureau of Land Management, Interior.

ACTION: Notice of Availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Draft Environmental Impact Statement (DEIS) for the West Antelope II Federal Coal Lease By Application (LBA) and by this Notice is announcing the opening of the comment period and a public hearing on the DEIS, Maximum Economic Recovery (MER), and Fair Market Value (FMV) associated with the proposed lease sale pursuant to 43 Code of Federal Regulations (CFR) 3425.4. The DEIS analyzes the potential impacts for coal LBA WYW163340, referred to as the West Antelope II tract, in the decertified Powder River Federal Coal Production Region, Wyoming.

DATES: To ensure they will be considered, the BLM must receive written comments on the DEIS, MER, and FMV within 60 days following the date the Environmental Protection Agency publishes its Notice of Availability of this DEIS in the Federal Register. The public hearing will be held at 7 p.m. MST, on March 24, 2008, at the Best Western Douglas Inn, 1450 Riverbend Drive, Douglas, Wyoming. The BLM will announce future meetings or hearings and any other public involvement activities at least 15 days in advance through public notices, media news releases, and/or mailings.

ADDRESSES: You may submit comments by any of the following methods:

E-mail: casper_wymail@blm.gov.

Fax: 307-261-7587.

Mail: Casper Field Office, Bureau of Land Management, Attn: Sarah Bucklin, 2987 Prospector Drive, Casper, Wyoming 82604.

FOR FURTHER INFORMATION CONTACT: Sarah Bucklin or Mike Karbs by mail at 2987 Prospector Drive, Casper, Wyoming 82604, by phone at 307-261-7600, or by e-mail at casper_wymail@blm.gov.

SUPPLEMENTARY INFORMATION: The BLM is considering issuing a coal lease as a result of an April 6, 2005, application made by Antelope Coal Company (Antelope) to lease the Federal coal in the West Antelope II coal tract. This tract is located in Converse and Campbell counties and is near the Antelope Mine, approximately 50 miles north of Douglas, Wyoming. The DEIS analyzes and discloses to the public the direct, indirect, and cumulative environmental impacts of issuing a Federal coal lease in the Wyoming portion of the Powder River Basin. A copy of the DEIS has been sent to affected Federal, State, and local government agencies; persons and entities identified as potentially being affected by a decision to lease the Federal coal in this tract; and persons who indicated to the BLM that they wished to receive a copy of the DEIS. The purpose of the public hearing is to solicit comments on the DEIS, on the proposed competitive sale of the West Antelope II coal tract, and comments on the FMV and MER of the Federal coal.

Antelope originally applied for the tract in accordance with 43 CFR part 3425 in order to extend the life of the existing Antelope Mine. The applicant estimated that the tract includes approximately 429.7 million tons of in-place Federal coal underlying the following lands in Converse and Campbell Counties, Wyoming:

T. 40 N., R. 71 W., 6th PM, Wyoming

Section 5: Lot 18;

Section 8: Lots 1 through 3, 6 through 11, 14 through 16;

Section 9: Lots 2 through 16;

Section 10: Lots 5, 6, 11 through 14;

T. 41 N., R. 71 W., 6th PM, Wyoming;

Section 9: Lots 9 through 16;

Section 10: Lots 11 through 15;

Section 14: Lots 3 and 4;

Section 15: Lots 1 through 5, 12, 13;

Section 20: Lots 14 through 16;

Section 21: Lots 1 through 16;

Section 22: Lots 2, 7, 8, 14 through 16;

Section 27: Lots 6 through 11;

Section 28: Lots 1 through 8;

Section 29: Lots 1 through 3, 6 through 8.

Containing 4,108.6 acres, more or less.

The Antelope Mine is adjacent to the LBA and has an approved mining and reclamation plan from the Land Quality Division of the Wyoming Department of Environmental Quality (DEQ) and an approved air quality permit from the Air Quality Division of the Wyoming DEQ that allows them to mine up to 42 million tons of coal per year.

The Board of Commissioners of Converse County, Wyoming; the Wyoming Department of Environmental Quality Air Quality Division and Land Quality Division; the Office of Surface Mining Reclamation and Enforcement; and the U.S. Forest Service are cooperating agencies in the preparation of the DEIS.

The DEIS analyzes leasing the West Antelope II coal tract as the Proposed Action. Under the Proposed Action, a competitive sale would be held and a lease issued for Federal coal in the tract as applied for by Antelope. As part of the coal leasing process, the BLM is evaluating an additional alternative that would add up to 2,200.6 adjacent acres of Federal coal to the tract to assure the maximum economic recovery of coal, to avoid isolating or bypassing marketable coal, or to prompt competitive interest in the unleased Federal coal for this area. These additional lands, located in T. 40 N., R. 71 W. and T. 41 N., R. 71 W., could potentially add another 65 million tons of in-place Federal coal to the West Antelope II LBA tract. The alternate tract configuration that BLM is evaluating is described and analyzed as a separate alternative in the DEIS. Under this alternative, a competitive sale would be held and a lease issued for Federal coal lands included in a tract modified by the BLM. The DEIS also analyzes the alternative of rejecting the application to lease Federal coal as the No Action Alternative. The Proposed Action and alternatives being considered in the DEIS are in conformance with the Approved Resource Management Plan for Public Lands Administered by the Bureau of Land Management Buffalo Field Office (2001), the Bureau of Land Management Casper Field Office Resource Management Plan (2007), and the USDA-Forest Service Land and Resource Management Plan for the Thunder Basin National Grassland (2002).

Requests to be included on the mailing list for this project and for copies of the DEIS may be sent in writing, by facsimile, or electronically to the addresses previously stated at the beginning of this notice. The BLM asks that those submitting comments on the DEIS make them as specific as possible with reference to page numbers and chapters of the document. Comments that contain only opinions or preferences will not receive a formal response; however, they will be considered and included as part of the BLM decision-making process.

Please note that public comments and information submitted including names, street addresses, and e-mail addresses of respondents will be available for public review and disclosure at the above address during regular business hours (8 a.m. to 4 p.m.), Monday through Friday, except holidays.

Before including your address, phone number, email address, or other personal identifying information in your comment, you should be aware that your entire comment, including your personal identifying information, may be made publicly available at any time. While you can ask us in your comment to withhold your personal identifying information from public review, we cannot guarantee that we will be able to do so.

Copies of the DEIS are available for public inspection at the following BLM office locations: BLM Wyoming State Office, 5353 Yellowstone Road, Cheyenne, Wyoming 82009; and BLM Casper Field Office, 2987 Prospector Lane, Casper, Wyoming 82604. The DEIS is available electronically on the following Web site: http://www.blm.gov/wy/st/en/info/NEPA/cfodocs/West_Antelope_II.html.

Dated: January 31, 2008.
Robert A. Bennett,
State Director.

[FR Doc. E8-5310 Filed 3-14-08; 8:45 am]

BILLING CODE 4310-22-P